OVERSEAS PRIVATE INVESTMENT CORPORATION

September 9, 2004 Board of Directors Meeting

Time and Date: Thursday, September 9, 2004, 10 a.m. (Open portion) 10:15 a.m. (Closed portion).

Place: Offices of the Corporation, Twelfth Floor Board Room, 1100 New York Avenue, NW., Washington, DC.

Status: Meeting Open to the Public from 10 a.m. to 10:15 a.m. Closed portion will commence at 10:15 a.m. (approx.).

Matters to be Considered:

1. President's Report

2. Approval of July 29, 2004 Minutes (Open portion)

Further Matters to be Considered: (Closed to the public 10:15 a.m.)

1. Allocation to reserves

2. Finance project—Africa

3. Finance project—Africa

4. Approval of July 29, 2004 minutes (closed portion)

5. Pending major projects

6. Reports

Contact Person for Information: Information on the meeting may be obtained from Connie M. Downs at (202) 336-8438.

Dated: August 25, 2004.
Connie M. Downs,
Corporate Secretary, Overseas Private Investment Corporation.

[FR Doc. 04-19722 Filed 8-25-04; 2:58 pm]

BILLING CODE 3210-01-M